DEPARTMENT OF COMMERCE

Submission for OMB Review; Comment Request; Five-Year Records Retention Requirement for Export Transactions and Boycott Actions

The Department of Commerce will submit to the Office of Management and Budget (OMB) for clearance the following proposal for collection of information under the provisions of the Paperwork Reduction Act (44 U.S.C. Chapter 35).

Agency: Bureau of Industry and Security.

Title: Five-Year Records Retention Requirement for Export Transactions and Boycott Actions.

Form Number(s): N/A.

OMB Control Number: 0694-0096.

Type of Review: Regular submission.

Estimated Total Annual Burden Hours: 248.

Estimated Number of Respondents: 84,001,108.

Estimated Time per Response: 1 second to 1 minute.

Needs and Uses: All parties involved in export transactions and the U.S. party involved in a boycott action are required to maintain records of these activities for a period of five years. Without this authority, potential violators could discard records demonstrating violations of the Export Administration Regulations prior to the expiration of the five-year statute of limitations.

Affected Public: Business or other for-profit organizations.

Frequency: On Occasion.

Respondent's Obligation: Voluntary.

This information collection request may be viewed at reginfo.gov http://www.reginfo.gov/public/. Follow the instructions to view Department of Commerce collections currently under review by OMB.

Written comments and recommendations for the proposed information collection should be sent within 30 days of publication of this notice to OIRA_Submission@omb.eop.gov.

Sheleen Dumas,
PRA Departmental Lead, Office of the Chief Information Officer.

[FR Doc. 2017-05232 Filed 3-15-17; 8:45 am]

BILLING CODE 3510-33-P